DEPARTMENT OF TRANSPORTATION

Federal Aviation Administration

Office of Commercial Space Transportation; Notice of Availability and Request for Comment on the Draft Environmental Assessment (EA) for Issuing an Experimental Permit to Space Exploration Technologies Corp. (SpaceX) for Operation of the DragonFly Vehicle at the McGregor Test Site, McGregor, Texas.

AGENCY: Federal Aviation Administration (FAA), DOT.

ACTION: Notice of Availability, Notice of Public Comment Period, and Request for Comment.

SUMMARY: In accordance with the National Environmental Policy Act of 1969, as amended (NEPA; 42 U.S.C. 4321, et seq.), Council on Environmental Quality NEPA implementing regulations (40 CFR Parts 1500-1508), and FAA Order 1050.1E, Environmental Impacts: Policies and Procedures, Change 1, the FAA is announcing the availability of and requesting comments on the Draft EA for Issuing an Experimental Permit to SpaceX for Operation of the DragonFly Vehicle at the McGregor Test Site, McGregor, Texas.

FOR FURTHER INFORMATION CONTACT: Mr. Daniel Czelusniak, Office of Commercial Space Transportation, Federal Aviation Administration, 800 Independence Avenue SW., Suite 325, Washington, DC 20591; telephone (202) 267-5924; email Daniel.Czelusniak@faa.gov.

SUPPLEMENTARY INFORMATION: The Draft EA was prepared to analyze the potential environmental impacts of SpaceX's proposal to conduct suborbital launches and landings of the DragonFly reusable launch vehicle (RLV) at the McGregor, Texas test site located in McLennan and Coryell Counties. To conduct this experimental testing, SpaceX must obtain an experimental permit from the FAA. Under the Proposed Action addressed in the EA, the FAA would issue an experimental permit to SpaceX, which would authorize SpaceX to conduct suborbital launches and landings of the DragonFly RLV from the McGregor test site. To support the DragonFly RLV activities under the experimental permit, SpaceX would construct a 40 foot (ft) by 40 ft launch pad. Therefore, the Proposed Action analyzed in the Draft EA includes the activities that would be authorized by the experimental permit (i.e., the operation of the launch vehicle) as well as the construction of the launch pad. SpaceX anticipates the DragonFly RLV program would require up to two years to complete (2014-2015). Therefore, the Proposed Action considers one new permit and one potential permit renewal. A maximum of 30 annual operations are proposed in each year of operation.

The Draft EA addresses the potential environmental impacts of implementing the Proposed Action and the No Action Alternative. Under the No Action Alternative, the FAA would not issue an experimental permit to SpaceX for the operation of the DragonFly RLV at the McGregor test site. Existing SpaceX activities would continue at the McGregor test site, which include engine testing for the Falcon 9 launch vehicle.

The impact categories considered in the Draft EA include air quality; noise and compatible land use; Department of Transportation Act: Section 4(f); historical, architectural, archaeological, and cultural resources; fish, wildlife, and plants; water quality (surface waters, groundwater, wetlands, and floodplains); natural resources and energy supply; hazardous materials, pollution prevention, and solid waste; light emissions and visual impacts; and socioeconomics, environmental justice, and children's environmental health risks and safety risks. The Draft EA also considers the potential cumulative environmental impacts.

The FAA has posted the Draft EA on the FAA Web site at http://www.faa.gov/about/office_org/headquarters_offices/ast/environmental/review/permits/.

A paper copy of the Draft EA may be reviewed during regular business hours at the following library:

• McGinley Memorial Library, 317 Main Street, McGregor, TX 76657

DATES: The FAA encourages all interested parties to provide comments concerning the scope and content of the Draft EA. To ensure that all comments can be addressed in the Final EA, comments on the draft must be received by the FAA, preferably in writing, on or before June 16, 2014, or 30 days from the date of publication of this Notice of Availability, whichever is later. Comments should be as specific as possible and address the analysis of potential environmental impacts and the adequacy of the proposed action or merits of alternatives being considered. Reviewers should organize their comments to be meaningful and inform the FAA of their interests and concerns by quoting or providing specific references to the text of the Draft EA. Matters that could have been raised with specificity during the comment period on the Draft EA may not be considered if they are raised for the first time later in the decision process. This commenting procedure is intended to ensure that substantive comments and concerns are made available to the FAA in a timely manner so that the FAA has an opportunity to address them.

ADDRESSES: Please submit comments in writing to Mr. Daniel Czelusniak, Office of Commercial Space Transportation, Federal Aviation Administration, 800 Independence Avenue SW., Suite 325, Washington, DC 20591; or by email at Daniel.Czelusniak@faa.gov.

Issued in Washington, DC on: May 14, 2014.
Daniel Murray,
Manager, Space Transportation Development Division.

[FR Doc. 2014-11780 Filed 5-20-14; 8:45 am]

BILLING CODE 4310-13-P